DEPARTMENT OF HOMELAND SECURITY

Federal Emergency Management Agency

[Docket ID: FEMA-2011-0038; OMB No. 1660-0034]

Agency Information Collection Activities: Proposed Collection; Comment Request, Emergency Management Institute Course Evaluation Form

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the Emergency Management Institute Course Evaluation Form, which is used to evaluate the quality of course deliveries, facilities, and instructors at the Emergency Management Institute (EMI).

DATES: Comments must be submitted on or before March 22, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Emergency Management Institute Course Evaluation Form.

Type of Information Collection: Revision of a currently approved information collection.

OMB Number: 1660-0034.

Form Titles and Numbers: FEMA Form 092-0-3, Emergency Management Institute Course Evaluation Form.

Affected Public: State, Local, or Tribal Government, Individuals or households.

Estimated Number of Respondents: 36,444.

Frequency of Response: On occasion.

Estimated Average Hour Burden per Respondent: .08 hours.

Estimated Total Annual Burden Hours: 2,746.

Estimated Cost: The estimated annual cost to respondents for the hour burden is $135,981.37. There is no estimated annual cost to respondents for operations and maintenance costs for technical services. There are no annual start-up or capital costs. The cost to the Federal government is $77,775.50.

John G. Jenkins, Jr.,
Acting Director, Records Management Division, Mission Support Bureau, Federal Emergency Management Agency, Department of Homeland Security.

[FR Doc. 2012-3847 Filed 2-17-12; 8:45 am]

BILLING CODE 9111-72-P